DEPARTMENT OF TRANSPORTATION

Surface Transportation Board

[STB Finance Docket No. 34127]

Parksierra Corporation (Successor-in-Interest to California Northern Railroad Company Limited Partnership)—Trackage Rights Exemption-North Coast Railroad Authority

AGENCY: Surface Transportation Board.

ACTION: Notice of exemption.

SUMMARY: Under 49 U.S.C. 10502, the Board is granting a petition for exemption from the prior approval requirements of 49 U.S.C. 11323-25 for ParkSierra Corporation, successor-in-interest to California Northern Railroad Company Limited Partnership, to acquire from North Coast Railroad Authority incidental trackage rights over a 10.5-mile segment of line in northern California between Schellville, milepost NWP 40.60 (SP 72.50), and Lombard, milepost SP 62.00, subject to employee protective conditions.

DATES: This exemption is effective on January 10, 2002. Petitions to stay must be filed by January 7, 2002. Petitions to reopen must be filed by January 22, 2002.

ADDRESSES: An original and 10 copies of all pleadings referring to STB Finance Docket No. 34127 must be filed with the Surface Transportation Board, Office of the Secretary, Case Control Unit 1925 K Street, NW., Washington, DC 20423-0001. In addition, a copy of all pleadings must be served on petitioner's representative, Troy W. Garris, 1300 19th Street, NW., Washington, DC 20036.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Dā 2 Dā Legal, Suite 405, 1925 K Street, NW., Washington, DC 20006. Telephone: (202) 293-7776. [Assistance for the hearing impaired is available through TDD services 1-800-877-8339.]

Board decisions and notices are available on our website at www.stb.dot.gov.

Decided: December 17, 2001.
By the Board, Chairman Morgan, Vice Chairman Clyburn, and Commissioner Burkes.
Vernon A. Williams,
Secretary.

[FR Doc. 01-31644 Filed 12-21-01; 8:45 am]

BILLING CODE 4915-00-P